DEPARTMENT OF HOMELAND SECURITY

Federal Emergency Management Agency

[Docket ID: FEMA-2011-0042; OMB No. 1660-0083]

Agency Information Collection Activities: Proposed Collection; Comment Request, Application for Community Disaster Loan (CDL) Program

AGENCY: Federal Emergency Management Agency, DHS.

ACTION: Notice.

SUMMARY: The Federal Emergency Management Agency, as part of its continuing effort to reduce paperwork and respondent burden, invites the general public and other Federal agencies to take this opportunity to comment on a proposed extension, without change, of a currently approved information collection. In accordance with the Paperwork Reduction Act of 1995, this notice seeks comments concerning the Community Disaster Loan (CDL) Program. This collection allows the government to make loans to communities that have suffered economic problems due to disasters.

DATES: Comments must be submitted on or before March 19, 2012.

ADDRESSES: To avoid duplicate submissions to the docket, please use only one of the following means to submit comments:

(1) Online. Submit comments at www.regulations.gov under Docket ID FEMA-2011-0042. Follow the instructions for submitting comments.

(2) Mail. Submit written comments to Regulatory Affairs Division, Office of Chief Counsel, DHS/FEMA, 500 C Street SW., Room 835, Washington, DC 20472-3100.

(3) Facsimile. Submit comments to (703) 483-2999.

(4) Email. Submit comments to FEMA-POLICY@dhs.gov. Include Docket ID FEMA-2011-0042 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Victor Kurz, Program Manager, Disaster Assistance Directorate, Public Assistance Division, (202) 646-7947 for additional information. You may contact the Records Management Division for copies of the proposed collection of information at facsimile number (202) 646-3347 or email address: FEMA-Information-Collections-Management@dhs.gov.

SUPPLEMENTARY INFORMATION: The Community Disaster Loan (CDL) Program is authorized by Section 417 of the Robert T. Stafford Disaster Relief and Emergency Assistance Act, Public Law 93-288, as amended, 42 U.S.C. 5184, and implementing regulations at 44 CFR subpart K. The Assistant Administrator may make a CDL to any local government which has suffered a substantial loss of tax or other revenues as a result of a major disaster or emergency and which demonstrates a need for Federal financial assistance in order to perform its governmental functions.

Collection of Information

Title: Application for Community Disaster Loan (CDL) Program.

Type of Information Collection: Extension, without change, of a currently approved information collection.

OMB Number: 1660-0083.

Form Titles and Numbers: FEMA Form 090-0-1, Certification of Eligibility for Community Disaster Loans; FEMA Form 116-0-1, Promissory Note; FEMA Form 085-0-1, Local Government Resolution—Collateral Security; FEMA Form 090-0-2, Application for Community Disaster Loan.

Abstract: The loan package for the CDL Program provides States, Local and Tribal governments that have suffered substantial loss of tax or other revenues as a result of a major disaster or emergency, the opportunity to obtain financial assistance in order to perform their governmental functions. The loan must be justified on the basis of need and actual expenses.

Affected Public: State, local or Tribal Government.

Estimated Total Annual Burden Hours: 975 hours.

Estimated Annualized Burden Hours and Costs
Type of respondent | Form name/form number | Number of respondents | Number of responses per respondent | Total number of responses | Avg. burden per response (in hours) | Total annual burden (in hours) | Avg. hourly wage rate | Total annual respondent cost
State, Local or Tribal Government | Certification of Eligibility for Community Disaster Loans/FEMA Form 090-0-1 | 50 | 1 | 50 | ¹ 2.5 | 125 | $49.32 | $6,165
State, Local or Tribal Government | Promissory Note/FEMA Form 116-0-1 | 50 | 1 | 50 | 4 | 200 | 49.32 | 9,864
State, Local or Tribal Government | Local Government Resolution—Collateral Security/FEMA Form 085-0-1 | 50 | 1 | 50 | 10 | 500 | 49.32 | 24,660
State, Local or Tribal Government | Application for Community Disaster Loan/FEMA Form 090-0-2 | 50 | 1 | 50 | 1 | 50 | 49.32 | 2,466
State, Local or Tribal Government | Annual Financial Report | 50 | 1 | 50 | 1 | 50 | 38.04 | 1,902
State, Local or Tribal Government | Letter of Application | 50 | 1 | 50 | 1 | 50 | 49.32 | 2,337
Total |  | 50 |  | 50 |  | 975 |  | 47,523
¹ 150 minutes.
Note: The “Avg. Hourly Wage Rate” for each respondent includes a 1.4 multiplier to reflect a fully-loaded wage rate.

Estimated Cost: The estimated annual cost to respondents for the hour burden is $47,523. There are no annual costs to respondents' operations and maintenance costs for technical services. There are no annual start-up or capital costs. The cost to the Federal Government is $1,015,220.

Comments

Comments may be submitted as indicated in the ADDRESSES caption above. Comments are solicited to (a) Evaluate whether the proposed data collection is necessary for the proper performance of the agency, including whether the information shall have practicality; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

John G. Jenkins, Jr.,
Acting Director, Records Management Division, Mission Support Bureau, Federal Emergency Management Agency, Department of Homeland Security.

[FR Doc. 2012-631 Filed 1-13-12; 8:45 am]

BILLING CODE 9111-23-P